DEPARTMENT OF TRANSPORTATION

Office of the Secretary

Notice of Applications for Certificates of Public Convenience and Necessity and Foreign Air Carrier Permits Filed Under Subpart B (Formerly Subpart Q) During the Week Ending January 23, 2004

The following Applications for Certificates of Public Convenience and Necessity and Foreign Air Carrier Permits were filed under subpart B (formerly subpart Q) of the Department of Transportation's Procedural Regulations (See 14 CFR 301.201 et seq.). The due date for Answers, Conforming Applications, or Motions to Modify Scope are set forth below for each application. Following the Answer period DOT may process the application by expedited procedures. Such procedures may consist of the adoption of a show-cause order, a tentative order, or in appropriate cases a final order without further proceedings.

Docket Number: OST-2004-16946.

Date Filed: January 21, 2004.

Due Date for Answers, Conforming Applications, or Motion to Modify Scope: February 11, 2004.

Description: Application of Kitty Hawk Aircargo, Inc., requesting issuance of a certificate of public convenience and necessity authorizing Kitty Hawk to engage in scheduled foreign air transportation of property and mail between any point or points in the United States and any point in the countries listed in appendix A to this application. Kitty Hawk also requests authority to integrate this certificate authority with all services it is otherwise authorized to conduct.

Andrea M. Jenkins,
Program Manager, Docket Operations, Federal Register Liaison.

[FR Doc. 04-2996 Filed 2-10-04; 8:45 am]

BILLING CODE 4910-62-P